Proclamation 9786 of September 14, 2018

National Historically Black Colleges and Universities Week, 2018

By the President of the United States of America

A Proclamation

National Historically Black Colleges and Universities Week celebrates the extraordinary contributions of Historically Black Colleges and Universities (HBCUs) and pays tribute to their rich legacy of promoting equal opportunities for high-quality education. For more than 150 years, these pillars of higher education have opened doors to brighter futures for many Americans. Their continued leadership in providing educational opportunities to a broad and diverse range of students plays an important role in our Nation's academic successes, with their graduates influencing and enhancing every sector of our economy.

For decades after the Civil War, under the harsh inequality of segregation and racial prejudice, the overwhelming majority of institutions of higher learning excluded minority students. Despite these adversities, the visionary leaders of HBCUs empowered their students by providing them opportunities for academic success. These institutions have produced many leaders in business, law, government, academia, and the military, and the rigorous education they offer has contributed to our national economic competitiveness and shared prosperity.

My Administration is committed to investing in HBCUs to help ensure that they can educate future generations of American students. Earlier this year, after my Administration's bipartisan collaboration with the Congress, I signed into law legislation that increased Federal funding to important HBCU programs by more than 14 percent.

Today, there are more than 100 HBCUs in 19 States, the District of Columbia, and the U.S. Virgin Islands. Combined, they educate nearly 300,000 enrolled students who will contribute their talents to bolstering our economy and serving our communities. This week, we reaffirm our support for HBCUs and recognize the profound influence they have had, and will continue to have, on our Nation. We are proud to support the tireless dedication of these institutions to advancing their students' full potential.

NOW, THEREFORE, I, DONALD J. TRUMP, President of the United States of America, by virtue of the authority vested in me by the Constitution and the laws of the United States, do hereby proclaim September 16 through September 22, 2018, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this fourteenth day of September, in the year of our Lord two thousand eighteen, and of the Independence of the United States of America the two hundred and forty-third.

[FR Doc. 2018-20564

Filed 9-18-18; 11:15 am]

Billing code 3295-F8-P